DEPARTMENT OF COMMERCE

National Oceanic and Atmospheric Administration

50 CFR Part 679

[Docket No. 001114320-0320-01; I.D. 080400B]

RIN 0648-AN01

Fisheries of the Exclusive Economic Zone Off Alaska; Revisions to Recordkeeping and Reporting Requirements; Alaska Commercial Operator’s Annual Report

AGENCY: National Marine Fisheries Service (NMFS), National Oceanic and Atmospheric Administration (NOAA), Commerce.

ACTION: Proposed rule; request for comments.

SUMMARY: NMFS issues a proposed rule to require groundfish motherships and catcher/processors to submit to the State of Alaska, Department of Fish & Game (ADF&G), an annual Commercial Operator's Annual Report (COAR). The COAR provides information on exvessel and first wholesale values for statewide finfish and shellfish products. The State of Alaska currently requires shoreside processors to submit this information to ADF&G. This proposed rule is necessary to extend these requirements to all groundfish processing sectors off Alaska in order to provide for equivalent annual product value information and for a consistent time series of information. This proposed rule is intended to further the objectives of the Magnuson-Stevens Fishery Conservation and Management Act (Magnuson-Stevens Act).

DATES: Comments must be received by January 16, 2001.

ADDRESSES: Comments on the proposed rule may be mailed to Sue Salveson, Assistant Regional Administrator, Sustainable Fisheries Division, NMFS, Alaska Region, P.O. Box 21668, Juneau, AK 99802-1668, Attn: Lori Gravel, or delivered to Federal Building, Fourth Floor, 709 West 9th Street, Juneau, Alaska, and marked Attn: Lori Gravel. Hand- or courier-delivered comments may be sent to the Federal Building, 709 West 9th Street, Room 453, Juneau, AK 99801. Send comments on the collection-of-information requirements to the same address and to the Office of Information and Regulatory Affairs, Office of Management and Budget (OMB), Washington, DC 20503 (Attn: NOAA Desk Officer).

Send comments on any ambiguity or unnecessary complexity arising from the language used in this proposed rule to the Administrator, Alaska Region, P.O. Box 21668, Juneau, AK 99802-1668.

FOR FURTHER INFORMATION CONTACT: Patsy A. Bearden, 907-586-7228 or patsy.bearden@noaa.gov.

SUPPLEMENTARY INFORMATION:

Background

NMFS manages fishing for groundfish by U.S. vessels in the exclusive economic zone (EEZ) off Alaska in accordance with the Fishery Management Plan (FMP) for Groundfish of the Gulf of Alaska (GOA) and the FMP for the Groundfish Fishery of the Bering Sea and Aleutian Islands Area (BSAI). The North Pacific Fishery Management Council (Council) prepared the FMPs under authority of the Magnuson-Stevens Act. Regulations implementing the FMPs at 50 CFR part 679 and subpart H of 50 CFR part 600 govern fishing by U.S. vessels. Recordkeeping and reporting requirements appear at 50 CFR 679.5.

Catcher/processors and motherships operating in the EEZ off Alaska represent a significant part of the total capacity of groundfish processors in the BSAI and GOA and account for a substantial part of the total landings each year, but currently are not required to supply groundfish product value information. In February 1999, the Council requested that NMFS collect exvessel and first wholesale value data for fish and shellfish products from motherships and catcher/processors through the COAR. Currently, shoreside processors and stationary floating processors are required to submit the COAR annually under title 5 of the Alaska Administrative Code (AAC), chapter 39.130. The information submitted in the COAR is protected by Alaska State confidentiality statute AS 16.05.815.

NMFS proposes to require federally permitted motherships and catcher/processors to complete and submit the Alaska COAR on an annual basis. Combining these data from motherships and catcher/processors with the information from shoreside processors and stationary floating processors would yield equivalent annual product value information for all processing sectors and would provide a consistent time series of information. NMFS could use this information to more efficiently manage groundfish resources. NMFS and the State of Alaska would coordinate the use of the information generated by the COAR.

The expected result of expanding the COAR’s collection of information would be an enhanced socioeconomic database that NMFS could use to more accurately measure economic and socioeconomic impacts and to prepare economic analyses of proposed or existing management measures. It would provide detailed (and consistent) data on production, prices, and product forms that NMFS would use to respond to requests for economic information from Federal and state management agencies, the fishing industry, and the general public. NMFS would also use the COAR data in analyses it prepares in compliance with the mandates of Executive Order 12866, the Magnuson-Stevens Act, including national standards 2, 4, 7 and 8, the American Fisheries Act (to monitor and report to Congress on the effects and efficacy of the new groundfish management programs), and the Regulatory Flexibility Act.

Additionally, the database would be used in the annual NMFS Stock Assessment and Fishery Evaluation documents for the groundfish fisheries of the BSAI and GOA, in annual Federal publications on the value of U.S. commercial fisheries, and in periodic reports that describe the fisheries.

The information would be collected annually on COAR paper application forms from all catcher/processors and motherships issued a Federal Fisheries permit to conduct fishing activities in the EEZ of the BSAI or GOA. ADF&G would provide the COAR forms to each mothership and catcher/processor on an annual basis to record information from the previous year. The motherships and catcher/processors would submit the COAR the following April to ADF&G, Juneau, AK. Each mothership or catcher/processor would be required to complete and submit one or more pages of the COAR to ADF&G for computer data entry. Only one COAR would be required from a vessel that functions both as a mothership and as a catcher/processor during a given year. A certification page would be submitted to indicate that no receipt or production of groundfish took place for that year, and that no other COAR pages would be required. Information from motherships and catcher/processors would be verified using the NMFS weekly production report data base. Information from processors that operate in state waters and shore-based processors would be verified using the ADF&G fish ticket data base.

About 58 percent of the motherships and catcher/processors that would be affected by this proposed rule are already voluntarily complying with the COAR requirement. In 1998, approximately 96 motherships and 237 catcher/processors were issued Federal Fisheries Permits, for a total of 333 at-sea processors. In 1998, based on weekly production report data, 35 motherships and 99 catcher/processors were active. Because 32 of the motherships also functioned as catcher/processors, a more accurate estimate of at-sea processors is 102. A total of 59 at-sea processors complied voluntarily with the 1998 State's data collection requirement and submitted a COAR to ADF&G, leaving approximately 43 processors that did not voluntarily submit the report.

This proposed rule would revise regulations at § 679.2 by adding a definition of COAR and at § 679.5 by adding a new paragraph (p) that sets forth requirements on completing and submitting the C OAR. Finally, several tables would be amended or added to part 679, specifically:

Table 1—Product Codes would be amended by removing code 96 and replacing it with two new codes, codes 88 and 89. Code 96 was established as a category for fish that were in any way adulterated. However, regulations require different handling of fish dependent on the type of adulteration. Therefore code 96, the “discard, decomposed” category, would be split into code 88 for flea-infested or parasite-infested fish, and code 89 for previously discarded or decomposed fish.

Table 14—Ports of landing, including CDQ and IFQ primary ports. Table 14, which currently lists CDQ and IFQ primary port codes, would be amended by creating three separate subtables (a, b, c) that show geographic subdivisions with the appropriate NMFS and ADF&G codes for each port of landing. The ADF&G developed alpha codes to designate ports in its computer database, while NMFS developed numerical codes to designate ports in its database. The ADF&G fish ticket program uses the alpha codes. The CDQ and IFQ programs use the NMFS numerical codes for ports of landing, and the IFQ program uses the NMFS numerical codes in the card-swipe terminal. With the advent of the NMFS shoreside processor electronic logbook and electronic weekly production reports, that use the numerical codes and this proposed expansion of the COAR that uses the alpha codes, NMFS proposes combining in one table both sets of codes in addition to the coordinates for those ports identified by NMFS as primary ports for the IFQ program. Table 14a would present the NMFS codes and the ADF&G codes for ports of landing in Alaska. Table 14b would present the NMFS codes and the ADF&G codes for ports of landing in California, Oregon, and Canada. Table 14c would present the NMFS codes and the ADF&G codes for ports of landing in Washington.

Table 15—Gear Codes, descriptions, and use. Table 15 (which currently describes gear codes and descriptions used with the IFQ Program on the card-swipe terminal plus ADF&G gear codes used on fish tickets) would be expanded to include all ADF&G gear codes. In addition, NMFS and ADF&G have agreed upon uniform definitions of gear types where differences existed. While ADF&G developed numeric codes to designate gear type in its computer database, NMFS developed alpha codes to designate gear type in its database. The CDQ and IFQ programs use the ADF&G numeric codes for gear type, and the IFQ program uses the ADF&G numeric codes for gear type in the card-swipe terminal. In addition, the NMFS logbook system uses whole words to describe a fewer number of gear types (e.g., trawl, jig). With the advent of the NMFS groundfish electronic weekly production reports (which use the alpha codes), the NMFS shoreside processor electronic logbook (which uses the whole words and both the numeric and alpha codes), and this proposed expansion of the COAR (which uses the numeric codes), NMFS proposes to combine in one table, all references to gear types used by either NMFS or ADF&G and to indicate where they are used.

Table 16—Area Codes and descriptions for use with ADF&G COAR. Table 16 would be added to present ADF&G area codes that are used in the COAR. The State of Alaska developed two major systems over a period of about 25 years: the fish ticket system and the COAR. ADF&G defines registration areas for fish tickets as geographic areas for a species where fisheries are managed by the State, meaning that a person must be registered with the State (permitted) to fish in that area for that species. ADF&G registration areas are described in State of Alaska regulations with specific latitude and longitude coordinates, but geographic areas are not necessarily consistent between species. The COAR defines areas generally, often in terms of prominent features or the location of a processing plant. State of Alaska regulations do not describe the COAR areas. NMFS describes areas first by management area (Bering Sea, Aleutian Islands, Gulf of Alaska) and then by reporting area. NMFS’s data collection for all species uses the NMFS area designations (a Federal reporting area often contains State waters). The COAR describes federal waters as: FB for Federal waters, Bering Sea and Aleutian Islands; FG for Federal waters, Gulf of Alaska, and means waters outside of 3 miles in its 200-mile limit. Because the COAR requests information from both ADF&G registration areas and Federal management areas, NMFS proposes to combine in one table, all references to areas used by either ADF&G registration areas or ADF&G COAR. ADF&G is currently working on revising the COAR area descriptions to correspond to ADF&G registration areas. Table 16 would be referenced when completing the COAR to describe areas where products were processed and where products were purchased.

Table 17—COAR Process Codes. Table 17 would be added to present ADF&G codes that describe processes that are used in the COAR.

Table 18—COAR Buying and Production Forms. Table 18 would be added to present the ADF&G buying and production reporting forms that make up the COAR. A separate form is used for each species/gear combination, and for reporting buying of fish or production of fish products.

Classification

Notwithstanding any other provision of the law, no person is required to respond to, nor shall any person be subject to a penalty for failure to comply with, a collection of information subject to the requirements of the Paperwork Reduction Act (PRA), unless that collection of information displays a currently valid OMB control number.

This proposed rule contains collection-of-information requirements subject to the PRA. The proposed collection with this rulemaking has been submitted to OMB for review and approval. The estimated response times for the COAR requirements are estimated to range from 0.5 hr to 16 hr, at an average of 8 hr per year.

Public comment is sought regarding this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection to NMFS and OMB (see ADDRESSES).

This proposed rule has been determined to be not significant for purposes of Executive Order 12866.

The Chief Counsel for Regulation of the Department of Commerce certified to the Chief Counsel for Advocacy of the Small Business Administration that this proposed rule, if adopted, would not have a significant economic impact on a substantial number of small entities as follows.

It is difficult to project how many of the firms that will be affected will fall into different size classes. NMFS has attempted to determine the numbers of BSAI and GOA groundfish catcher-processing operations that may be called small on the basis of U.S. Small Business Administration (SBA) guidelines for fishing firms. These guidelines use a $3,000,000 gross revenue threshold to separate small from large operations. These also require that the $3,000,000 threshold consider income to all affiliated operations in its application to any one firm.

NMFS reporting suggests that 70 of the 91 catcher-processors operating in 1999 were small vessels and that 21 were large. These totals changed significantly from 1997 when 58 of the catcher-processors were small and 58 were large. Three of the six motherships grossed more than $3,000,000 in 1999.

These NMFS reports are believed to overstate the numbers of small catcher-processors and motherships and to understate the numbers of large catcher-processors and motherships (with respect to the SBA definitions) for the following reasons: (1) a vessel’s earnings from other fisheries and activities were not included, (2) a vessel owner’s earnings from other sources (i.e., another vessel) were not included, (3) the ex-vessel value of a delivery by a catcher-vessel to an at-sea processor was included only when a fish ticket with value data was submitted for the delivery, (4) vessel specific fish ticket landings weight and value data are used to estimate ex-vessel value for catcher vessels but such data are not available for all deliveries to inshore processors, (5) these estimates do not take account of affiliation relationships that may exist between an individual vessel and other fishing or processing operations.

In 1999 there were 91 catcher-processors and six motherships (that did not also function as catcher processors) in the at-sea processing sector. In 1998, 59 out of 102 at-sea processors, or 58%, filed COAR reports in the absence of this regulation and 43, or 42%, did not. If the percentages were similar in 1999, 41 firms would not file COAR reports in the absence of this regulatory change.

It is estimated that completion of the COAR report takes 15 minutes of overhead time, and an additional 15 minutes for each species and product combination produced by the firm. Weekly Processor Reports for 1999 indicate that vessels were producing an average of 15 species and product combinations. The COAR report will increase the number of species and product combinations to be considered. For the purposes of this analysis, it is assumed that this will increase the number of species and product combinations by 50%, to 23. This means that it may take 360 minutes, or 6 hours, to fill out each COAR report.

It is estimated to cost $50/hour to complete these forms. This implies that the cost for completing a COAR report would be $300 if it took 6 hours. If regulatory change requires 41 vessels to begin to fill out these reports, the total annual additional compliance cost for all at-sea processors would be $12,300.

While it is hard to project the numbers of firms of different sizes that will be affected by this rule, it seems likely, on the basis of the considerations described in the cost discussion of this section, that this requirement will not have a substantial impact on the cash flow, or the profitability, of either large or small groundfish at-sea processors.

As noted above, the total annual industry cost of this rule is estimated to be about $12,300. In addition there will be some start-up expenses. The average cost for an individual vessel is estimated to be about $300. It has been estimated that in 1999 groundfish catcher-processors produced a processed value of about $469.6 million (this catcher-processor gross combined with an estimated 1999 mothership gross of $22.8 million, gave a total at-sea processor gross of $492.4 million). This is an average of $5.16 million for each catcher-processor operation. As noted above, only 21 operations grossed more than $3 million so the distribution of harvest values is highly skewed. Nevertheless, it seems unlikely that even smaller catcher processors will find their cash flow or profitability significantly negatively impacted.

Based on the above description, NMFS has determined that this action would not have a “significant impact” as NMFS has interpreted that term to mean that it would have disproportionate or profitability impacts. The proposed requirement would not place affected entities at a significant competitive disadvantage relative to large entities, and would not significantly reduce profit for the regulated entity. Therefore, a regulatory flexibility analysis was not prepared.

The President has directed Federal agencies to use plain language in their communications with the public, including regulations. To comply with that directive, we seek public comment on any ambiguity or unnecessary complexity arising from the language used in this proposed rule. Such comments should be sent to the Alaska Regional Administrator (see ADDRESSES).

List of Subjects in 50 CFR Part 679

Alaska, Fisheries, Recordkeeping and reporting requirements.

Dated: December 1, 2000
William T. Hogarth,
Deputy Asst. Administrator for Fisheries, National Marine Fisheries Service.

For the reasons set forth in the preamble, 50 CFR part 679 is proposed to be amended as follows:

PART 679—FISHERIES OF THE EXCLUSIVE ECONOMIC ZONE OFF ALASKA

1. The authority citation for 50 CFR part 679 continues to read as follows:

Authority: 16 U.S.C. 773 et seq., 1801 et seq., and 3631 et seq.

2. Section 679.2 is amended by adding the definition for “Commercial Operator’s Annual Report (COAR).”

§ 679.2 Definitions.

* * * * *

Commercial Operator’s Annual Report (COAR) means the annual report of information on exvessel and first wholesale values for fish and shellfish required under Title 5 of the Alaska Administrative Code, chapter 39.130 (see § 679.5(o)).

* * * * *

3. Section 679.5 is amended by adding paragraph (p) to read as follows:

§ 679.5 Recordkeeping and reporting.

* * * * *

(p) Commercial Operator’s Annual Report (COAR)—(1) Requirement. The owner of a mothership or catcher/processor must annually complete and submit to ADF&G the appropriate Forms A through M and COAR certification page for each year in which the mothership or catcher/processor was issued a Federal Fisheries permit. The owner of a mothership must include all fish received and processed during the year, including fish received from an associated buying station. The ADF&G COAR is further described under Alaska Administrative Code (5 AAC 39.130) (see § 679.3(b)(2)).

(2) Time limit and submittal of COAR.

The owner of a mothership or catcher/processor must submit to ADF&G the appropriate Forms A through M and COAR certification page by April 1 of the year following the year of issuance of a Federal Fisheries permit to the following address: Alaska Department of Fish & Game, Division of Commercial Fisheries, Attn: COAR, P.O. Box 25526, Juneau, Alaska 99802-5526

(3) Information required, certification page. The owner of a mothership or catcher/processor must:

(i) Enter the company name and address, including street, city, state, and zip code; also seasonal mailing address, if applicable.

(ii) Enter the vessel name and ADF&G processor code.

(iii) Check YES or NO to indicate whether fishing activity occurred conducted during the appropriate year.

(iv) If response to paragraph (o)(3)(iii) of this section is YES, complete the applicable forms of the COAR (see table 18 to this part) and complete and sign the certification page.

(v) If response to paragraph (o)(3)(iii) of this section is NO, complete and sign only the certification page.

(vi) Sign and enter printed or typed name, e-mail address, title, telephone number, and FAX number of owner.

(vii) Enter printed or typed name, e-mail address, and telephone number of alternate contact.

(4) Buying forms (exvessel), Forms A(1-3), C(1-2), E, G, I(1-2), K, and M.—(i) Requirement. If the mothership was the first purchaser of raw fish, the owner must record and submit the appropriate COAR buying forms (A(1-3), C(1-2), E, G, I(1-2), K, and M) for all information for each species purchased during the applicable year.

(ii) Buying information required. The owner of the mothership must record the following information on the appropriate COAR buying forms:

(A) Species name and code (see table 2 to this part).

(B) Area purchased (see table 16 to this part).

(C) Gear code (see table 15 to this part).

(D) Delivery code (form G only) (see table 1 to this part).

(E) Total pounds (to the nearest lb) purchased from fishermen.

(F) Total amount paid to fishermen, including all post- season adjustments and/or bonuses and any credit received by fishermen for gas expenses, ice, delivery premiums, and other miscellaneous expenses.

(G) Price per pound. If additional adjustments would be made after this report has been filed, the owner must check the “$ not final” box, and submit Form M when these adjustments are paid. Do not include fish purchased from another processor.

(5) Wholesale production forms, Forms B(1-6), D, F, H, J(1-2), and K). For purposes of this paragraph, the total wholesale value is the amount that the processor receives for the finished product (free on board pricing mothership or catcher/processor). For products finished but not yet sold (still held in inventory), calculate the estimated value using the average price received to date for that product.

(i) Requirement—(A) Mothership. The owner of a mothership must record and submit the appropriate COAR production forms (B(1-6), D, F, H, J(1-2), and K) for all production for each species during the applicable year:

(1) That were purchased from fishermen on the grounds and/or dockside, including both processed and unprocessed seafood.

(2) That were then either processed on the mothership or exported out of the State of Alaska.

(B) Catcher/processor. The owner of a catcher/processor must record and submit the appropriate COAR production forms (B(1-6), D, F, H, J(1-2), and K) for each species harvested during the applicable year that were then either processed on the vessel or exported out of the State of Alaska.

(ii) Information required, non-canned production.

(A) Enter area of processing (see table 16 to this part). List production of Canadian-harvested fish separately.

(B) Processed product. Processed product must be described by entering three codes:

(1) Process prefix code (see table 17 to this part).

(2) Process suffix code (see table 17 to this part).

(3) Product code (see table 1 to this part).

(C) Total net weight. Enter total weight in pounds of the finished product.

(D) Total value($). Enter the total wholesale value of the finished product.

(E) Enter price per pound of the finished product.

(iii) Information required, canned production. Complete an entry for each can size produced:

(A) Enter area of processing (see table 16 to this part).

(B) Process 51 or 52. Enter conventional canned code (51) or smoked, conventional canned code (52).

(C) Total value($). Enter the total wholesale value of the finished product.

(D) Enter price per pound of the finished product.

(E) Enter can size in ounces, to the hundredth of an ounce.

(F) Enter number of cans per case.

(G) Enter number of cases.

(6) Custom production forms, Form L(1-2)—(i) Requirement. The owner of a mothership or catcher/processor must record and submit COAR production form L(1-2) for each species in which custom production was done by the mothership or catcher/processor for another processor and for each species in which custom production was done for the mothership or catcher/processor by another processor.

(ii) Custom-production by mothership or catcher/processor for another processor. If the mothership or catcher/processor custom-processed fish or shellfish for another processor during the applicable year, the owner of the mothership or catcher/processor must list the processor name and ADF&G processor code (if known) to describe that processor, but must not include any of that production in production form L(1-2).

(iii) Custom-production by another processor for mothership or catcher/processor. If a processor custom-processed fish or shellfish for the mothership or catcher/processor during the applicable year, the owner of the mothership or catcher/processor must use a separate page to list each processor and must include the following information.

(A) Custom fresh/frozen miscellaneous production. The owner of a mothership or catcher/processor must list the following information to describe production intended for wholesale/retail market and that are not frozen for canning later:

(1) Species name and code (see table 2 to this part).

(2) Area of processing (see table 16 to this part).

(3) Processed product. Processed product must be entered using three codes:

(i) Process prefix code (see table 17 to this part).

(ii) Process suffix code (see table 17 to this part).

(iii) Product code (see table 1 to this part).

(4) Total net weight. Enter total weight in pounds of the finished product.

(5) Total wholesale value($). Enter the total wholesale value of the finished product.

(B) Custom canned production. The owner of a mothership or catcher/processor must list the following information to describe each can size produced in custom canned production:

(1) Species name and code (see table 2 to this part).

(2) Area of processing (see table 16 to this part).

(3) Process 51 or 52. Enter conventional canned code (51) or smoked, conventional canned code (52).

(4) Total wholesale value($). Enter the total wholesale value of the finished product.

(5) Can size in ounces, to the hundredth of an ounce.

(6) Number of cans per case.

(7) Number of cases.

(7) Fish buying retro payments/post-season adjustments, Form M—(i) Requirement. The owner of a mothership must record and submit COAR production Form M to describe additional adjustments and/or bonuses awarded to a fisherman, including credit received by fishermen for gas expenses, ice, delivery premiums, and other miscellaneous expenses.

(ii) Information required.

(A) Enter species name and code (see table 2 to this part).

(B) Enter area purchased (see table 16 to this part).

(C) Enter gear code (see table 16 to this part).

(D) Enter total pounds purchased from fisherman.

(E) Enter total amount paid to fishermen (base + adjustment).

4. In part 679, tables 1, 14 and 15 to part 679 are revised; tables 16, 17, and 18 to part 679 are added.

Table 1 to Part 679.—Product and Delivery Codes (These codes describe the condition of the fish at the point it is weighed and recorded)
Product Description | Code
GENERAL USE CODES |
Belly flaps. Flesh in region of pelvic and pectoral fins and behind head. (ancillary only) | 19
Bled only. Throat, or isthmus, slit to allow blood to drain. | 03
Bled fish destined for fish meal (includes offsite production) DO NOT RECORD ON PTR. | 42
Bones (if meal, report as 32) (ancillary only). | 39
Butterfly, no backbone. Head removed, belly slit, viscera and most of backbone removed; fillets attached. | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets. | 24
Fillets, skinless/boneless. Meat with both skin and ribs removed, from sides of body behind head and in front of tail. | 23
Fillets with ribs, no skin. Meat with ribs with skin removed, from sides of body behind head and in front of tail. | 22
Fillets with skin and ribs. Meat and skin with ribs attached, from sides of body behind head and in front of tail. | 20
Fillets with skin, no ribs. Meat and skin with ribs removed, from sides of body behind head and in front of tail. | 21
Fish meal. Meal from whole fish or fish parts; includes bone meal. | 32
Fish oil. Rendered oil from whole fish or fish parts. Record only oil destined for sale and not oil stored or burned for fuel onboard. | 33
Gutted, head on. Belly slit and viscera removed. | 04
Head and gutted, with roe. | 06
Headed and gutted, Western cut. | 07
Head removed just in front of the collar bone, and viscera removed. | 07
Headed and gutted, Eastern cut. Head removed just behind the collar bone, and viscera removed. | 08
Headed and gutted, tail removed. Head removed usually in front of collar bone, and viscera and tail removed. | 10
Heads. Heads only, regardless where severed from body (ancillary only). | 16
Kirimi (Steak) Head removed either in front or behind the collar bone, viscera removed, and tail removed by cuts perpendicular to the spine, resulting in a steak. | 11
Mantles, octopus or squid. Flesh after removal of viscera and arms. | 36
Milt. (in sacs, or testes) (ancillary only). | 34
Minced. Ground flesh. | 31
Other retained product. If product is not listed on this table, enter code 97 and write a description with product recovery rate next to it in parentheses. | 97
Pectoral girdle. Collar bone and associated bones, cartilage and flesh. | 15
Roe. Eggs, either loose or in sacs, or skeins (ancillary only). | 14
Salted and split. Head removed, belly slit, viscera removed, fillets cut from head to tail but remaining attached near tail. Product salted. | 12
Stomachs. Includes all internal organs (ancillary only) | 35
Surimi. Paste from fish flesh and additives | 30
Whole fish/meal. Whole fish destined for meal (includes offsite production.) DO NOT RECORD ON PTR. | 41
Whole fish/food fish. | 01
Whole fish/bait. Processed for bait. Sold | 02
Wings. On skates, side fins are cut off next to body. | 13
DISCARD/DISPOSITION CODES |
Whole fish/donated prohibited species. Number of Pacific salmon or Pacific halibut, otherwise required to be discarded, that is donated to charity under a NMFS-authorized program. | 86
Whole fish/onboard bait. Whole fish used as bait on board vessel. Not sold. | 92
Whole fish/damaged. Whole fish damaged by observer’s sampling procedures. | 93
Whole fish/personal use, consumption. Fish or fish products eaten on board or taken off the vessel for personal use. Not sold or utilized as bait | 95
Whole fish, discard, at sea. Whole groundfish and prohibited species discarded by catcher vessels, Catcher/Processors, Motherships, or Vessel Buying Stations delivering to Motherships. DO NOT RECORD ON PTR. | 98
Whole fish, discard, infested. Flea-infested fish, parasite-infested fish | 88
Whole fish, discard, decomposed. Decomposed or previously discarded fish | 89
Whole fish, discard, onshore. Discard after delivery and before processing by Shoreside Processors and Buying Stations delivering to Shoreside Processors and in-plant discard of whole ground-fish and prohibited species during processing. DO NOT RECORD ON PTR. | 99
PRODUCT DESIGNATION CODES |
Ancillary product means a product, such as meal, heads, internal organs, pectoral girdles, or any other product that may be made from the same fish as the primary product. | A
Primary product means a product, such as fillets, made from each fish, with the highest recovery rate. | P
Reprocessed or rehandled product means a product, such as meal, that results from processing a previously reported product or from rehandling a previously reported product. | R
IFQ CODES Reserved for use with IFQ fish products |
Gutted, head off. Belly slit and viscera removed. Pacific halibut only. | 05
Gutted, head on. Belly slit and viscera removed. Pacific halibut and sablefish. | 04
Whole fish/food fish with ice & slime. Sablefish only. | 51
Bled only with ice & slime. Throat or isthmus slit to allow blood to drain. Sablefish only. | 53
Gutted, head on, with ice & slime. Belly slit and viscera removed. Pacific halibut and sablefish. | 54
Gutted, head off, with ice & slime. Belly slit and viscera removed. Pacific halibut only. | 55
Headed and gutted, Western cut, with ice & slime. Sablefish only. | 57
Headed and gutted, Eastern cut, with ice & slime. Sablefish only. | 58

Table 14a to Part 679.—Port of Landing Codes, Alaska, including CDQ and IFQ Primary Ports
Port Name | NMFS Code | ADF & G Code | CDQ/IFQ Primary Ports for Vessel Clearance (X indicates an authorized IFQ port; see § 679.5(l)(5)(vi)): CDQ/ IFQ | CDQ/IFQ Primary Ports for Vessel Clearance (X indicates an authorized IFQ port; see § 679.5(l)(5)(vi)): North Latitude | CDQ/IFQ Primary Ports for Vessel Clearance (X indicates an authorized IFQ port; see § 679.5(l)(5)(vi)): West Longitude
Adak | 186 | ADA |  |  |
Akutan | 101 | AKU | X | 54°08'05″ | 165°46'20″
Akutan Bay | 102 |  |  |  |
Alitak | 103 | ALI |  |  |
Anchor Point | 104 |  |  |  |
Anchorage | 105 | ANC |  |  |
Angoon | 106 | ANC |  |  |
Aniak |  | ANI |  |  |
Anvik |  | ANV |  |  |
Atka | 107 | ATK |  |  |
Auka Bay | 108 |  |  |  |
Baranof Warm Springs | 109 |  |  |  |
Beaver Inlet | 110 |  |  |  |
Bethel |  |  |  |  |
Captains Bay | 112 |  |  |  |
Chignik | 113 | CHG |  |  |
Chinitna Bay | 114 |  |  |  |
Cordova | 115 | COR | X | 60°33'00″ | 145°45'00″
Craig | 116 | CRG | X | 55°28'30″ | 133°09'00″
Dillingham | 117 | DIL |  |  |
Douglas | 118 |  |  |  |
Dutch Harbor | 119 |  |  |  |
Dutch Harbor/Unalaska |  |  | X | 53°53'27″ | 166°32'05″
Edna Bay | 121 |  |  |  |
Egegik | 122 | EGE |  |  |
Ekuk |  | EKU |  |  |
Elfin Cove | 123 | ELF |  |  |
Emmonak |  | EMM |  |  |
False Pass | 125 |  |  |  |
Fairbanks |  | FBK |  |  |
Galena |  | GAL |  |  |
Glacier Bay |  | GLB |  |  |
Glennalen |  | GLN |  |  |
Gustavus | 127 | GUS |  |  |
Haines | 128 | HNS |  |  |
Halibut Cove | 130 |  |  |  |
Hollis | 131 |  |  |  |
Homer | 132 | HOM | X | 59°38'40″ | 151°33'00″
Hoonah | 133 | HNH |  |  |
Hydaburg | 128 | HNS |  |  |
Hyder | 134 | HDR |  |  |
Ikatan Bay | 135 |  |  |  |
Juneau | 136 | JNU |  |  |
Kake | 137 | KAK |  |  |
Kaltag |  | KAL |  |  |
Kasilof | 138 | KAS |  |  |
Kenai | 139 | KEN |  |  |
Kenai River | 140 |  |  |  |
Ketchikan | 141 | KTN | X | 55°20'30″ | 131°38'45″
King Cove | 142 | KCO | X | 55°03'20″ | 162°19'00″
King Salmon | 143 | KNG |  |  |
Kipnuk | 144 |  |  |  |
Klawock | 145 | KLA |  |  |
Kotzebue |  | KOT |  |  |
La Conner |  | LAC |  |  |
Mekoryuk | 147 |  |  |  |
Metlakatla | 148 | MET |  |  |
Moser Bay |  | MOS |  |  |
Naknek | 149 | NAK |  |  |
Nenana |  | NEN |  |  |
Nikiski (or Nikishka) | 150 | NIK |  |  |
Ninilchik | 151 | NIN |  |  |
Nome | 152 | NOM |  |  |
Nunivak Island |  | NUN |  |  |
Old Harbor | 153 | OLD |  |  |
Other/Unknown | 499 | UNK |  |  |
Pelican | 155 | PEL | X | 57°57'30″ | 136°13'30″
Petersburg | 156 | PBG | X | 56°48'10″ | 132°58'00″
Point Baker | 157 |  |  |  |
Port Alexander | 158 | PAL |  |  |
Port Bailey | 159 | PTB |  |  |
Port Graham | 160 | GRM |  |  |
Port Lions |  | LIO |  |  |
Port Moller |  | MOL |  |  |
Port Protection | 161 |  |  |  |
Resurrection Bay | 163 |  |  |  |
Sand Point | 164 | SPT | X | 55°20'15″ | 160°30'00″
Savoonga | 165 |  |  |  |
Seldonia | 166 | SEL |  |  |
Seward | 167 | SEW | X | 60°06'30″ | 149°26'30″
Sitka | 168 | SIT | X | 57°03' | 135°20'
Skagway | 169 | SKG |  |  |
Soldotna |  | SOL |  |  |
St. George | 170 | STG |  |  |
St. Lawrence | 171 |  |  |  |
St. Mary |  | STM |  |  |
St. Paul | 172 | STP | X | 57°07'20″ | 170°16'30″
Tee Hrbor | 173 |  |  |  |
Tenakee Spring | 174 | TEN |  |  |
Thorne Bay | 175 |  |  |  |
Togiak | 176 | TOG |  |  |
Toksook Bay | 177 |  |  |  |
Tununak | 178 |  |  |  |
Ugadaga Bay | 179 |  |  |  |
Ugashik |  | UGA |  |  |
Unalakleet |  | UNA |  |  |
Unalaska | 180 |  |  |  |
Valdez | 181 | VAL |  |  |
Wasilla |  | WAS |  |  |
Whittier | 183 | WHT |  |  |
Wrangell | 184 | WRN |  |  |
Yakutat | 185 | YAK |  | 59°33' | 139°44'

Table 14b to Part 679.—Port of Landing Codes: California, Oregon, Canada including CDQ and IFQ Primary Ports
Port Name | NMFS Code | ADF&G Code | CDQ/IFQ Primary Ports for Vessel Clearance (X indicates an authorized IFQ port; see § 679.5(l)(5)(vi)): CDQ/ IFQ | CDQ/IFQ Primary Ports for Vessel Clearance (X indicates an authorized IFQ port; see § 679.5(l)(5)(vi)): North Latitude | CDQ/IFQ Primary Ports for Vessel Clearance (X indicates an authorized IFQ port; see § 679.5(l)(5)(vi)): West Longitude
CALIFORNIA |  |  |  |  |
Eureka | 500 | EUR |  |  |
Fort Bragg | 501 |  |  |  |
Other | 599 |  |  |  |
OREGON |  |  |  |  |
Astoria | 600 | AST |  |  |
Lincoln City | 602 |  |  |  |
Newport | 603 | NPT |  |  |
Olympia |  | OLY |  |  |
Portland |  | POR |  |  |
Warrenton | 604 |  |  |  |
Other | 699 |  |  |  |
CANADA |  |  |  |  |
Port Edward | 800 |  |  |  |
Port Hardy | 801 |  |  |  |
Prince Rupert | 802 | PRU |  |  |
Other | 899 |  |  |  |

Table 14c to part 679.—Washington Port of Landing Codes including CDQ and IFQ Primary Ports
Port Name | NMFS Code | AD&G Code | CDQ/IFQ Primary Ports for Vessel Clearance (X indicates an authorized IFQ port; see § 679.5(l)(5)(vi)): CDQ/IFQ | CDQ/IFQ Primary Ports for Vessel Clearance (X indicates an authorized IFQ port; see § 679.5(l)(5)(vi)): North Latitude | CDQ/IFQ Primary Ports for Vessel Clearance (X indicates an authorized IFQ port; see § 679.5(l)(5)(vi)): West Longitude
Anacortes | 700 | ANA |  |  |
Belluvue | 701 |  |  |  |
Bellingham | 702 |  | X | 48°45'04″ | 122°30'02″
Blaine |  | BLA |  |  |
Edmond | 703 |  |  |  |
Everett | 704 |  |  |  |
Fox Island | 706 |  |  |  |
Ilwaco | 707 |  |  |  |
La Conner | 708 | LAC |  |  |
Mercer Island | 709 |  |  |  |
Nagai Island | 710 |  |  |  |
Port Orchard | 712 |  |  |  |
Port Townsend | 713 |  |  |  |
Rainier | 714 |  |  |  |
Seattle | 715 | SEA |  |  |
Tacoma |  | TAC |  |  |
Other | 799 |  |  |  |

Table 15 to Part 679.—Gear codes, descriptions, and use (X indicates where this code is used)
Name of Gear | NMFS Logbooks and Forms | Electronic WPR & Check-in/out Code | Gear Code, Numeric | Use Numeric Code to Complete the Following:: Shoreside Electronic Logbook | Use Numeric Code to Complete the Following:: IFQ Terminal and Forms | Use Numeric Code to Complete the Following:: COAR Re port
Diving |  | OTH | 11 | X |  | X
Dredge |  | OTH | 01 | X |  | X
Dredge, hydro/mechanical |  | OTH | 23 | X |  | X
Fish wheel |  | OTH | 08 | X |  |
Gillnet, drift |  | OTH | 03 | X |  | X
Gillnet, herring |  | OTH | 34 | X |  | X
Gillnet, set |  | OTH | 04 | X |  | X
Gillnet, sunken |  | OTH | 41 | X |  | X
Hand line/jig/troll |  | ⁽¹⁾ | 05 | X | IFQ name: hand troll | X
Handpicked |  | OTH | 12 | X |  | X
Hatchery |  | n/a | 77 | X |  | X
Hook-and-line | X | HAL | 61 | X | X | X
Jig, mechanical |  | ⁽¹⁾ | 26 | X |  | X
Jig/Troll | X | JIG | ⁽¹⁾ | ⁽¹⁾ |  |
Net, dip |  | OTH | 13 | X |  | X
Net, ring |  | OTH | 10 | X |  | X
Other/specify | X | OTH | 99 | X |  | X
Pot | X | POT | 91 | X | X | X
Pound | X | OTH | 21 | X |  | X
Seine, purse |  | OTH | 01 | X |  | X
Seine, beach |  | OTH | 02 | X |  | X
Shovel |  | OTH | 18 | X |  | X
Trap |  | OTH | 90 | X |  | X
Troll, dinglebar |  | OTH | 25 | X | IFQ name: dinglebar troll | X
Troll, power gurdy |  | ⁽¹⁾ | 15 | X |  | X
Trawl, beam |  | ⁽²⁾ | 17 | X |  | X
Trawl, double otter |  | ⁽²⁾ | 27 | X |  | X
Trawl, nonpelagic/bottom | X | NPT | 07 | X |  | X
Trawl, pelagic/midwater | X | PTR | 47 | X |  | X
Weir |  | OTH | 14 | X |  | X
⁽¹⁾Federal Authorized Gear JIG/TROLL. No numeric code is available because both jig and troll have a separate code number
⁽²⁾For logbooks, forms, electronic WPR, electroniccheck-in/out reports: all trawl gear must be reported as either nonpelagic or pelagic trawl

Table 16 to Part 679.—Area codes and descriptions for use with State of Alaska ADF&G Commercial Operator’s Annual Report (COAR)
COAR: Name (Code) | Species | ADF&G fisheries management areas | Area description in ADF&G regulations
Alaska Peninsula: South Peninsula (MS) North Peninsula (MN) | King Crab: AK Peninsula/Aleutian Islands Salmon Herring | M M M | 5 AAC 34.500 5 AAC 12.100 (Aleutians) 5 AAC 09.100 (AK Peninsula) 5 AAC 27.600
Atka-Amlia Islands (FB) (FG) | Salmon | n/a | 5 AAC 11.1010
Bering Sea: Pribilof Island (Q1) St. Matthew Island Q2) St. Lawrence Island (Q4) | Bering Sea King Crab Bering Sea/Kotzebue Herring | Q Q | 5 AAC 34.900 5 AAC 27.900
Bristol Bay (T) | King Crab Salmon Herring | T T T | 5 AAC 34.800 5 AAC 06.100 5 AAC 27.800
Chignik (L) | Groundfish Herring Salmon | L L L | 5 AAC 28.500 5 AAC 27.550 5 AAC 15.100
Cook Inlet: Lower Cook Inlet (HL) Upper Cook Inlet (HU) | Groundfish Herring Cook Inlet Shrimp Outer Cook Inlet Shrimp Dungeness Crab King Crab Tanner Crab Miscellaneous Shellfish Salmon | H H H H H H H H H | 5 AAC 28.300 5 AAC 27.400 5 AAC 31.300 5 AAC 31.400 5 AAC 32.300 5 AAC 34.300 5 AAC 35.400 5 AAC 38.300 5 AAC 21.100
Dutch Harbor (O) | Aleutian Islands King Crab | O | 5 AAC 34.600
EEZ (Federal waters of BSAI and GOA) (FB) (FG) | Groundfish | n/a | n/a
Kodiak (western GOA) (K) | Groundfish Herring King Crab Salmon Shrimp Dungeness Crab Tanner Crab Miscellaneous Shellfish | K K K K J J J J | 5 AAC 28.400 5 AAC 27.500 5 AAC 34.400 5 AAC 18.100 5 AAC 31.500 5 AAC 32.400 5 AAC 35.500 5 AAC 38.400
Kotzebue (X) | Salmon | W | 5 AAC 03.100
Kuskokwim: Kuskokwim River/Bay (W1) Security Cove (W2) Goodnews Bay (W3) Nelson Island (W4) Ninivak Island (W5) Cape Avinof (W6) | Salmon Herring | W W | 5 AAC 07.100 5 AAC 27.870
Norton Sound (Z) | Norton Sound-Port Clarence Salmon Norton Sound-Port Clarence King Crab | Z | 5 AAC 04.100
Prince William Sound (E) | Groundfish Herring Shrimp Dungeness Crab King Crab Tanner Crab Miscellaneous Shellfish Salmon | E E E E E E E | 5 AAC 28.200 5 AAC 27.300 5 AAC 31.200 5 AAC 32.200 5 AAC 34.200 5 AAC 35.300 5 AAC 38.200 5 AAC 24.100
Southeast: Juneau/Haines (A1) Yakutat (A2) Ketchikan/Craig (B) Petersburg/Wrangell (C) Sitka/Pelican (D) | Groundfish Southeast (w/o Yakutat) Herring Yakutat Herring Southeast (w/o Yakutat) Dungeness Shrimp Yakutat Shrimp Southeast (w/o Yakutat) Crab Yakutat Dungeness Crab Southeast (w/o Yakutat) King Crab Yakutat King Crab Southeast (w/o Yakutat) Tanner Crab Southeast (w/o Yakutat) Miscellaneous Shellfish Yakutat Miscellaneous Shellfish Southeast (w/o Yakutat) Salmon Yakutat Salmon | A A D A D A D A D A D A D A D | 5 AAC 28.100 5 AAC 27.100 5 AAC 27.200 5 AAC 31.100 5 AAC 31.150 5 AAC 32.100 5 AAC 32.155 5 AAC 34.100 5 AAC 34.160 5 AAC 35.100 5 AAC 35.160 5 AAC 38.100 5 AAC 38.160 5 AAC 33.100 5 AAC 29.010 5 AAC 30.100
Yukon River: Lower Yukon (YL) Upper Yukon (YU) | Yukon-Northern Salmon | Y | 5 AAC 05.100

Table 17 to Part 679.—Process Codes for use with State of Alaska Commercial Operator’s Annual Report (COAR)
Codes | Process Codes and Description
Prefix Codes | 1-Fresh
| 2-Frozen
| 3-Salted/brined
| 4-Smoked
| 5-Canned
| 6-Cooked
| 7-Live
| 8-Dry
| 9-Pickled
| 11-Minced
Suffix Codes | 0-General
| 1-Canned Conv.
| 2-Canned smoked
| 8-Vacuum packed
| 1-Individual quick frozen (IFQ) pack
| S-Shatter pack
| B-Block

Table 18 to Part 679.—Required Buying and Production Forms for use with State of Alaska Commercial Operator’s Annual Report (COAR)
Fishery | Required Form Number and Name
Salmon | Salmon Buying: (A)(1) Seine gear (A)(1) Gillnet gear (A)(2) Troll gear Hatchery (A)(3) Miscellaneous gear King Salmon Production: (B)(1) Production (B)(1) Canned Production Sockeye Salmon Production: (B)(2) Production (B)(2) Canned Production Coho Salmon Production: (B)(3) Production (B)(3) Canned Production Pink Salmon Production: (B)(4) Production (B)(4) Canned Production Chum Salmon Production: (B)(5) Production (B)(5) Canned Production Salmon Roe & Byproduct Production: (B)(6) Roe (B)(6) Byproduct Production
Herring | Herring Buying: (C)(1) Seine gear (C)(1) Gillnet gear (C)(2) Gillnet gear (contd) (C)(2) Pound gear (C)(2) Hand-pick gear Herring Production: (D) Production (D) Byproduct Production
Crab | (E)Crab Buying: (F) Crab Production
Shrimp/Miscellaneous shellfish | (G)Shrimp/Misc.Shellfish Buying: Trawl gear Pot gear Diving/picked gear Other gear (specify) (H) Shrimp/Misc. Shellfish Production
Groundfish | (I)(1) (I)(2) Groundfish Buying (J)(1) (J)(2) Groundfish Production
Halibut | (K) Halibut Buying & Production
Custom Production | Custom Production: (L)(1) Associated Processors Custom Fresh/Frozen Misc. production Custom Canned Production (L)(2) (additional sheet)
PRICES NOT FINAL | (M)(1) Fish Buying Retro Payments (M)(2) Post-season Adjustments

[FR Doc. 00-31916 Filed 12-13-00; 8:45 am]

BILLING CODE 3510-01-S